DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans).

SUMMARY: The FHWA, on behalf of Caltrans, is issuing this notice to announce actions taken by Caltrans, that are final within the meaning of Section 1308 of the Moving Ahead for Progress in the 21st Century Act. The actions relate to a proposed highway project, State Route 79, from South of Domenigoni Parkway to Gilman Springs Road (post mile R15.78 to post mile R33.80, in the Cities of Hemet and San Jacinto and unincorporated Riverside County, in the County of Riverside, State of California. Those actions grant licenses, permits, and approvals for the project.

DATES: A claim seeking judicial review of the Federal agency actions on the highway project will be barred unless the claim is filed on or before August 14, 2017. If the Federal law that authorizes judicial review of a claim provides a time period of less than 150 days for filing such claim, then that shorter time period still applies.

FOR FURTHER INFORMATION CONTACT: For Caltrans: Aaron Burton, Senior Environmental Planner, California Department of Transportation, Division of Environmental Planning, 464 West Fourth Street, 6th Floor, MS 829, San Bernardino, California 92401; or call (909) 383-2841, email aaron.burton@dot.ca.gov; Patti Castillo, Riverside County Transportation Commission, 4080 Lemon Street, Riverside, CA 92502, by phone at (951) 787-7141, email pcastillo@rctc.org. Normal business hours are from 8:00 a.m. to 4:00 p.m.

SUPPLEMENTARY INFORMATION: Effective July 1, 2007, the Federal Highway Administration (FHWA) assigned, and the California Department of Transportation (Caltrans) assumed, environmental responsibilities for this project pursuant to 23 U.S.C. 327. Notice is hereby given that Caltrans, has taken final agency actions subject to 23 U.S.C. 139(l)(1) by issuing licenses, permits, and approvals for the following highway project in the State of California: State Route 79 realignment project is proposed from Domenigoni Parkway to Gilman Springs Road, a distance of approximately 18 miles, in the Cities of Hemet and San Jacinto, as well as unincorporated Riverside County. The realigned highway would be a limited access, four-lane expressway, with two travel lanes in each direction separated by a median. It is noted that the current NEPA Assignment to Caltrans is in suspension awaiting. However, Caltrans' actions were completed prior to this suspension. The actions by the Federal agencies, and the laws under which such actions were taken, are described in the Final Environmental Impact Statement (FEIS) for the project, approved on October 27, 2016, in the FHWA Record of Decision (ROD) issued on December 16, 2016, and in other documents in the FHWA project records. The FEIS, ROD, and other project records are available by contacting Caltrans at the addresses provided above. The Caltrans FEIS and ROD can be viewed and downloaded from the project Web site at www.sr79project.info, or viewed at Hemet Public Library, 300 E. Latham Avenue, Hemet, CA 92543 or at the San Jacinto Public Library, 500 Idyllwild Drive, San Jacinto, CA 92583.n the project area.

This notice applies to all Federal agency decisions as of the issuance date of this notice and all laws under which such actions were taken, including but not limited to:

1. National Environmental Policy Act (NEPA) (42 U.S.C. 4321-4351 et seq.)

2. Council on Environmental Quality Regulations

3. Federal-Aid Highway Act of 1970, 23 U.S.C. 109

4. MAP-21, the Moving Ahead for Progress in the 21st Century Act

5. Clean Air Act (42 U.S.C. 7401-7671(q))

6. Migratory Bird Treaty Act (16 U.S.C. 703-712)

7. Historic and Cultural Resources: Section 106 of the National Historic Preservation Act of 1966, as amended (16 U.S.C. 470(f) et seq.)

8. Clean Water Act (Section 401) (33 U.S.C. 1251-1377) of 1977 and 1987 (Federal Water Pollution Control Act of 1972)

9. Federal Endangered Species Act of 1973 (16 U.S.C. 1531-1543)

10. Fish and Wildlife Coordination Act of 1934, as amended

11. Noise Control Act of 1972

12. Safe Drinking Water Act of 1944, as amended

13. Executive Order 11990—Protection of Wetlands

14. Executive Order 11990—Floodplains Management

15. Executive Order 11990—Invasive Species

16. Executive Order 11990—Federal Actions to Address Environmental Justice and Low Income Populations

17. Title VI of the Civil Rights Act of 1964, as amended

18. Department of Transportation Act of 1966, Section 4(f) (49 U.S.C. 303)

(Catalog of Federal Domestic Assistance Program Number 20.205, Highway Planning and Construction. The regulations implementing Executive Order 12372 regarding intergovernmental consultation on Federal programs and activities apply to this program.)

Authority: 23 U.S.C. 139(l)(1).

Matthew Schmitz,
Director, Project Delivery, Federal Highway Administration, Sacramento, California.

[FR Doc. 2017-05153 Filed 3-14-17; 8:45 am]

BILLING CODE 4910-RY-P